DEPARTMENT OF HOUSING AND URBAN DEVELOPMENT

[Docket No. FR-5041-N-30]

Notice of Proposed Information Collection: Comment Request; Request for Occupied Conveyance

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: October 17, 2006.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8003, Washington, DC 20410.

FOR FURTHER INFORMATION CONTACT: Laurie Maggiano, Acting Director, Office of Single Family Asset Management, U.S. Department of Housing and Urban Development, 451 7th Street, SW., Washington, DC 20410, telephone (202) 708-1672 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Request for Occupied Conveyance.

OMB Control Number, if applicable: 2502-0268.

Description of the need for the information and proposed use: Prior to intended acquisition of property securing an FHA-insured mortgage; the mortgagee must notify the mortgagor and each head of household who is occupying a unit of the potential acquisition by HUD. The mortgagee informs the occupant of his/her rights and includes information necessary for the occupant to request to remain in the property. Occupants return the form HUD-9539 and supporting documentation to the local HUD office within 20 days after receipt of the notice. The information is necessary for HUD to determine whether the occupant qualifies to remain in the property. An occupant who is accepted must execute a month-to-month lease.

Agency form numbers, if applicable: HUD-9539.

Estimation of the total numbers of hours needed to prepare the information collection including number of respondents, frequency of response, and hours of response: The estimated total number of burden hours needed to prepare the information collection is 21,125; the number of respondents is 12,750 generating approximately 74,750 annual responses; the frequency of response is on occasion; and the estimated time needed to prepare the response varies from 15 minutes to 30 minutes.

Status of the proposed information collection: This is an extension of a currently approved collection.

Authority: The Paperwork Reduction Act of 1995, 44 U.S.C., Chapter 35, as amended.

Dated: August 14, 2006.
Frank L. Davis,
General Deputy Assistant Secretary for Housing—Federal Housing Commissioner.

[FR Doc. E6-13606 Filed 8-17-06; 8:45 am]

BILLING CODE 4210-67-P